DEPARTMENT OF HEALTH AND HUMAN SERVICES

Centers for Disease Control and Prevention

Disease, Disability, and Injury Prevention and Control Special Emphasis Panels (SEP): Initial Review

The meeting announced below concerns Epidemiology, Prevention and Treatment of Influenza and other Respiratory Infections in Panama and Central America Region, Funding Opportunity Announcement (FOA) IP13-002; and Strengthening Global Animal-Human Interface Activities for Avian Influenza and other Zoonotic Diseases, FOA CK13-002, initial review.

Correction: The notice was published in the Federal Register on February 7, 2013, Volume 78, Number 26, Page 9055. The time and date should read as follows:

Time and Date: 1:00 p.m.-3:00 p.m., March 26, 2013 (Closed).

Contact Person for More Information: Gregory Anderson, M.S., M.P.H., Scientific Review Officer, CDC, 1600 Clifton Road, NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-05393 Filed 3-7-13; 8:45 am]

BILLING CODE 4163-18-P